DEPARTMENT OF ENERGY

Federal Energy Regulatory Commission

[Docket No. ER01-3074-002, et al.]

San Diego Gas & Electric Company, et al.; Electric Rate and Corporate Regulation Filings

December 26 2001.

Take notice that the following filings have been made with the Commission. Any comments should be submitted in accordance with Standard Paragraph E at the end of this notice.

1. San Diego Gas & Electric Company

[Docket No. ER01-3074-002]

Take notice that on December 6, 2001, San Diego Gas & Electric Company (SDG&E) tendered for filing documentation that support project costs and explains its use of an annual fix charge to calculate transmission revenues.

Comment date: January 7, 2002.

2. Entergy Nuclear Vermont Yankee, LLC

[Docket No. ER02-564-000]

Take notice that on December 19, 2001, Entergy Nuclear Vermont Yankee, LLC (Entergy Nuclear VY) tendered for filing an application for authorization to sell energy, capacity and ancillary services at market-based rates pursuant to section 205 of the Federal Power Act. Entergy Nuclear VY also tendered for filing a long-term power purchase agreement between Entergy Nuclear VY and Vermont Yankee Nuclear Power Corporation (VYNPC) for acceptance as a service agreement under Entergy Nuclear VY's proposed market-based rate tariff.

Copies of this filing were served upon VYNPC, the Vermont Public Service Board, the Arkansas Public Service Commission, the Louisiana Public Service Commission, the Mississippi Public Service Commission, the Council of the City of New Orleans and the Texas Public Utility Commission.

Comment date: January 11, 2002.

3. Duke Energy Enterprise, LLC

[Docket No. ER02-565-000]

Take notice that on December 19, 2001, Duke Energy Enterprise, LLC (Duke Enterprise) tendered for filing pursuant to Section 205 of the Federal Power Act its proposed FERC Electric Tariff No. 1.

Duke Enterprise seeks authority to sell energy and capacity, as well as ancillary services, at market-based rates, together with certain waivers and preapprovals. Duke Enterprise also seeks authority to sell, assign, or transfer transmission rights that it may acquire in the course of its marketing activities. Duke Enterprise requests pursuant to Section 35.11 of the Commission's regulations that the Commission waive the 60-day minimum notice requirement under Section 35.3(a) of its regulations and grant an effective date for this application of February 14, 2002, the date on which Duke Enterprise anticipates commencing the sale of test energy.

Comment date: January 11, 2002.

4. Meriden Gas Turbines LLC

[Docket No. ER02-566-000]

On December 19, 2001, Meriden Gas Turbines LLC (Meriden) filed, under section 205 of the Federal Power Act (FPA), an application requesting that the Commission (1) Accept for filing its proposed market-based FERC Rate Schedule No. 1; (2) grant blanket authority to make market-based wholesale sales of capacity and energy under the FERC Rate Schedule No. 1; (3) grant authority to sell ancillary services at market-based rates within ISO New England Inc., New York Independent System Operator, Inc., and PJM Interconnection, L.L.C.; and (4) grant such waivers and blanket authorizations as the Commission has granted in the past to other nonfranchised entities with market-based rate authority.

Comment date: January 11, 2002.

5. Consumers Energy Company

[Docket No. ER02-567-000]

Take notice that on December 19, 2001, Consumers Energy Company (Consumers) tendered for filing a Service Agreement with Duke Power, a division of Duke Energy Corporation, (Customer) under Consumers FERC Electric Tariff No. 9 for Market Based Sales. Consumers requested that the Agreement be allowed to become effective as of December 13, 2001.

Copies of the filing were served upon the Customer and the Michigan Public Service Commission.

Comment date: January 11, 2002.

6. Canal Electric Company

[Docket No. ER02-568-000]

Take notice that on December 20, 2001, Canal Electric Company tendered for filing the Eighth Amendment to the Power Contract between Canal Electric Company and Commonwealth Electric Company and Cambridge Electric Light Company, as well as revised tariff sheets to implement the Eighth Amendment, for effectiveness on January 1, 2002. The Eighth Amendment modifies the schedule of nuclear decommissioning expenses to reflect the schedule approved by the New Hampshire Nuclear decommissioning Financing Committee in its Final Report and Order issued November 5, 2001.

Comment date: January 11, 2002.

7. New England Power Pool

[Docket No. ER02-569-000]

Take notice that on December 20, 2001, the New England Power Pool (NEPOOL) Participants Committee submitted the Eighty-First Agreement Amending New England Power Pool Agreement (the Eighty-First Agreement), which proposes to restate the existing Financial Assurance Policy for NEPOOL Members, which is Attachment L to the NEPOOL Tariff, and the Financial Assurance Policy for NEPOOL Non-Participant Transmission Customers, which is Attachment M to the NEPOOL Tariff. The Eighty-First Agreement also proposes minor, clarifying changes to Section 21.2(d) of the Restated NEPOOL Agreement. A January 21, 2002 effective date is requested for the revised Restated NEPOOL Agreement and NEPOOL Tariff sheets reflecting the changes proposed by the Eighty-First Agreement.

The NEPOOL Participants Committee states that copies of these materials were sent to the NEPOOL Participants, Non-Participant Transmission Customers and the New England state governors and regulatory commissions.

Comment date: January 11, 2002.

8. Allegheny Energy Service Corporation on behalf of Allegheny Energy Supply Company, LLC

[Docket No. ER02-570-000]

Take notice that on December 20, 2001, Allegheny Energy Service Corporation on behalf of Allegheny Energy Supply Company, LLC (Allegheny Energy Supply) filed Service Agreement No. 152 to add one (1) new Customer to the Market Rate tariff under which Allegheny Energy Supply offers generation services. Allegheny Energy Supply requests a waiver of notice requirements for an effective date of December 1, 2001 for service to Morgan Stanley Capital Group, Inc. Confidential treatment of information in the Service Agreement has been requested. Copies of the filing have been provided to the customer.

Comment date: January 11, 2002.

9. RAMCO, Inc.

[Docket No. ER02-571-000]

Take notice that on December 19, 2001, RAMCO, Inc. (RAMCO) tendered for filing two service agreements for power sales with the California Independent System Operator for sales by RAMCO to the CAISO at market-based rates according to its FERC Electric Tariff, Original Volume No. 1.

Comment date: January 11, 2002.

10. Mountain View Power Partners, LLC

[Docket No. ER02-572-000]

Take notice that on December 19, 2001, Mountain View Power Partners, LLC (Mountain View) filed a Master Agreement (the Master Agreement) and a Confirmation

entered into thereunder (collectively, the “Agreement”) for power sales with its affiliate, PG&E Energy Trading-Power, L.P. (PGET) as required by the Commission in its letter Order of February 9, 2001. See Mountain View Power Partners, LLC, Docket No. ER01-1336-000 (delegated letter order issued February 9, 2001) (Section 205 Letter Order). The Agreement commits Mountain View to sell capacity, energy and ancillary services to PGET at market-based rates according to its FERC Electric Tariff, Original Volume No. 1.

Comment date: January 11, 2002.

11. Mountain View Power Partners II, LLC

[Docket No. ER02-573-000]

Take notice that on December 19, 2001, Mountain View Power Partners II, LLC (Mountain View II) filed a Master Agreement (the Master Agreement) and a Confirmation entered into thereunder (collectively, the Agreement) for power sales with its affiliate, PG&E Energy Trading-Power, L.P. (PGET) as required by the Commission in its letter Order of April 16, 2001. Mountain View Power Partners II, LLC, Docket No. ER01-1336-000 (delegated letter order issued April 16, 2001) (Section 205 Letter Order). The Agreement commits Mountain View II to sell capacity, energy and ancillary services to PGET at market-based rates according to its FERC Electric Tariff, Original Volume No. 1.

Comment date: January 11, 2002.

12. Michigan Electric Transmission Company

[Docket No. ER02-574-000]

Take notice that on December 19, 2001, Michigan Electric Transmission Company (Michigan Transco) tendered for filing with the Federal Energy Regulatory Commission (Commission) an executed Service Agreements for services associated with Network Integration Transmission Service with Sebewaing Light & Water Department and Thumb Electric Cooperative and for Firm and/or Non-Firm Point-to-Point Transmission Service with participants listed on the Commission's Service List.

Comment date: January 9, 2002.

13. American Electric Power Service Corporation

[Docket No. ER02-575-000]

Take notice that on December 19, 2001, American Electric Power Service Corporation (AEPSC) tendered for filing with the Federal Energy Regulatory Commission (Commission) a Notice of Cancellation of Service Agreement No. 296 between AEPSC as agent for Indiana Michigan Power Company and Duke Energy Berrien, L.L.C. under American Electric Power Operating Companies' Open Access Transmission Tariff (OATT) pursuant to Section 35.15 of the Commission's regulations.

AEPSC requests an effective date of February 17, 2002 for the cancellation.

AEPSC served copies of the filing upon Duke Energy Berrien, L.L.C. c/o Duke Energy North America, LLC.

Comment date: January 9, 2002.

14. Appalachian Power Company

[Docket No. ER02-576-000]

Take notice that on December 19, 2001, Appalachian Power Company tendered for filing a Letter Agreement with Mirant Danville, L.L.C.

AEP requests an effective date of February 17, 2002.

Copies of Appalachian Power Company's filing have been served upon the Virginia State Corporation Commission.

Comment date: January 9, 2002.

15. Appalachian Power Company

[Docket No. ER02-577-000]

Take notice that on December 19, 2001, Appalachian Power Company tendered for filing a Letter Agreement with Allegheny Energy Supply Company, L.L.C.

AEP requests an effective date of February 17, 2002.

Copies of Appalachian Power Company's filing have been served upon the Virginia State Corporation Commission.

Comment date: January 9, 2002.

16. Carolina Power & Light Company

[Docket No. ER02-578-000]

Take notice that on December 19, 2001, Carolina Power & Light Company (CP&L) tendered for filing an executed Service Agreement between CP&L and the following eligible buyer, Oglethorpe Power Corporation. Service to this eligible buyer will be in accordance with the terms and conditions of CP&L's Market-Based Rates Tariff, FERC Electric Tariff No. 5.

CP&L requests an effective date of December 3, 2001 for this Service Agreement.

Copies of the filing were served upon the North Carolina Utilities Commission and the South Carolina Public Service Commission.

Comment date: January 9, 2002.

17. Capital District Energy Center Cogeneration Associates

[Docket No. ER02-579-000]

Take notice that on December 19, 2001, Capital District Energy Center Cogeneration Associates (CDECCA), filed with the Federal Energy Regulatory Commission (Commission) an application for approval of its initial tariff (FERC Electric Tariff Original Volume No. 1), and for blanket approval for market-based rates pursuant to Part 35 of the Commission's regulations.

CDECCA is a general partnership that owns and operates a 56-MW generating plant located in Hartford, Connecticut.

Comment date: January 11, 2002.

18. Pawtucket Power Associates Limited Partnership

[Docket No. ER02-580-000]

Take notice that on December 19, 2001, Pawtucket Power Associates Limited Partnership (Pawtucket), filed with the Federal Energy Regulatory Commission an application for approval of its initial tariff (FERC Electric Tariff Original Volume No. 1), and for blanket approval for market-based rates pursuant to Part 35 of the Commission's regulations.

Pawtucket is a limited partnership formed under the laws of Massachusetts. Pawtucket owns and operates a 68-MW generating plant located in Pawtucket, Rhode Island.

Comment date: January 9, 2002.

19. Fitchburg Gas and Electric Light Company

[Docket No. ER02-582-000]

Take notice that on December 19, 2001, Fitchburg Gas and Electric Light Company (Fitchburg) filed a service agreement with New Hampshire Electric Cooperative, Inc. for service under Fitchburg's Market-Based Power Sales Tariff. This Tariff was accepted for filing by the Commission on September 25, 1997, in Docket No. ER97-2463-000. Fitchburg requests an effective date of November 28, 2001.

Comment date: January 9, 2002.

20. Duke Energy Southaven, LLC

[Docket No. ER02-583-000]

Take notice that on December 20, 2001, Duke Energy Southaven, LLC (Duke Southaven) tendered for filing pursuant to Section 205 of the Federal Power Act its proposed FERC Electric Tariff No. 1.

Duke Southaven seeks authority to sell energy and capacity, as well as ancillary services, at market-based rates, together with certain waivers and preapprovals. Duke Southaven also seeks authority to sell, assign, or transfer transmission rights that it may acquire in the course of its marketing activities. Duke Southaven requests pursuant to Section 35.11 of the Commission's regulations that the Commission waive the 60-day minimum notice requirement under Section 35.3(a) of its regulations and grant an effective date of February 18, 2002, the date on which Duke Southaven anticipates commencing the sale of test energy.

Comment date: January 10, 2002.

21. Wisconsin Public Service Corporation

[Docket No. ER02-584-000]

Take notice that on December 20, 2001, Wisconsin Public Service Corporation (WPSC), a subsidiary of WPS Resources Corp. (WPSR) on behalf of itself and Upper Peninsula Power Company (UPPCo), also a WPSR subsidiary (collectively the Operating Companies) tendered for filing Notices of Cancellation of Service Agreement Nos. 18, 19, 99 and 100. The service agreements are transmission service agreements with El Paso Merchant Energy, L.P. (El Paso) under WPS Resources Operating Companies' open Access Transmission Tariff. In conformity with Order No. 614 WPSC also tenders service agreement cover sheets that show that the service agreements have been canceled.

WPSC respectfully requests that the Commission accept its filing and allow the cancellation to become effective as of December 21, 2001.

Copies of the filing were served upon El Paso, the Michigan Public Service Commission, and the Public Service Commission of Wisconsin.

Comment date: January 10, 2002.

22. Pacific Gas and Electric Company

[Docket No. ER02-585-000]

Take notice that on December 20, 2001, Pacific Gas and Electric Company (PG&E) tendered for filing a Notice of Cancellation of the PG&E First Revised Rate Schedule FERC No. 210 (Reliability Must-Run Service Agreement between Pacific Gas and Electric Company and the California Independent System Operator Corporation for Kings River Power Plant).

Copies of this filing have been served upon the California Independent System Operator Corporation (ISO) and the California Public Utilities Commission.

Comment date: January 10, 2002.

23. Public Service Company of New Mexico

[Docket No. ER02-586-000]

Take notice that on December 20, 2001, Public Service Company of New Mexico (PNM) submitted for filing an executed service agreement with the Valley Electric Association, Inc. dated December 17, 2001, for electric power and energy sales at negotiated rates under the terms of PNM's Power and Energy Sales Tariff. PNM has requested an effective date of December 6, 2001 for the agreement. PNM's filing is available for public inspection at its offices in Albuquerque, New Mexico.

Copies of the filing have been sent to the Valley Electric Association, Inc. and to the New Mexico Public Regulation Commission.

Comment date: January 10, 2002.

24. Dominion Nuclear Marketing II, Inc.

[Docket No. ER02-587-000]

Take notice that on December 20, 2001, Dominion Nuclear Marketing II, Inc. (the Company), respectfully tendered for filing the following Service Agreement by Dominion Nuclear Marketing II, Inc. to Allegheny Energy Supply Company, LLC, designated as Service Agreement No. 4, under the Company's FERC Market-Based Sales Tariff, Original Volume No. 1, effective on November 24, 2000. A copy of the filing was served upon Allegheny Energy Supply Company, LLC, the Virginia State Corporation Commission, and the North Carolina Utilities Commission.

The Company requests an effective date of November 30, 2001, as requested by the customer.

Comment date: January 10, 2002.

25. Dominion Nuclear Marketing II, Inc.

[Docket No. ER02-588-000]

Take notice that on December 20, 2001, Dominion Nuclear Marketing II, Inc. (the Company) respectfully tendered for filing the following Service Agreement by Dominion Nuclear Marketing II, Inc. to Connecticut Municipal Electric Energy Cooperative, designated as Service Agreement No. 5, under the Company's FERC Market-Based Sales Tariff, Original Volume No. 1, effective on November 24, 2000.

The Company requests an effective date of December 11, 2001, as requested by the customer.

A copy of the filing was served upon Connecticut Municipal Electric Energy Cooperative, the Virginia State Corporation Commission, and the North Carolina Utilities Commission.

Comment date: January 10, 2002.

26. Duke Energy Enterprise, LLC

[Docket No. EG02-55-000]

Take notice that on December 29, 2001, Duke Energy Enterprise, LLC (Duke Enterprise) filed an application with the Federal Energy Regulatory Commission (the Commission) for determination of exempt wholesale generator status pursuant to Section 32 of the Public Utility Holding Company Act of 1935, as amended, and Part 365 of the Commission's regulations.

Duke Enterprise is a Delaware limited liability company that will be engaged directly and exclusively in the business of operating all or part of one or more eligible facilities to be located in Clarke County, Mississippi. The eligible facilities will consist of a simple cycle electric generation plant with a nominal capacity of 640 MW and related interconnection facilities. The output of the eligible facilities will be sold at wholesale.

Comment date: January 16, 2002 The Commission will limit its consideration of comments to those that concern the adequacy or accuracy of the application.

27. Meriden Gas Turbines LLC

[Docket No. EG02-56-000]

Take notice that on December 19, 2001, Meriden Gas Turbines LLC (Meriden) filed with the Federal Energy Regulatory Commission (Commission) an application for determination of exempt wholesale generator status pursuant to section 32 of the Public Utility Holding Company Act of 1935 (PUHCA) and Part 365 of the Commission's regulations.

As more fully explained in the application, Meriden is a limited liability company that will be engaged either directly or indirectly and exclusively in the business of owning and operating an electric generation facility located in Connecticut.

Comment date: January 16, 2002 The Commission will limit its consideration of comments to those that concern the adequacy or accuracy of the application.

28. MPX Termoceará Ltda.

[Docket No. EG02-57-000]

Take notice that on December 19, 2001, MPX Termoceará Ltda. (Applicant), Rua Dom Luis 500, sala 1925, Fortaleza, Ceará, Brazil filed with the Federal Energy Regulatory Commission (Commission) an application for determination of exempt wholesale generator status pursuant to Part 365 of the Commission's regulations.

Applicant is a 49%-owned subsidiary of MDU Resources Group, Inc. Applicant will own and operate a simple cycle natural gas-fired power generation plant with a nominal 200 MW gross capacity (the Facility). All of the capacity and energy available from the Facility will be sold at wholesale.

Comment date: January 16, 2002 The Commission will limit its consideration of comments to those that concern the adequacy or accuracy of the application.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-32178 Filed 12-31-01; 8:45 am]

BILLING CODE 6717-01-P